ELECTION ASSISTANCE COMMISSION

Voting System Manufacturer Registration, Application for Testing, Anomaly Reporting and Root Cause Analysis, Survey and Submission to OMB of Proposed Collection of Information

AGENCY: U.S. Election Assistance Commission.

ACTION: Notice; request for comment.

SUMMARY: In compliance with the Paperwork Reduction Act of 1995, the EAC announces an information collection and seeks public comment on the provisions thereof. The EAC intends to submit this proposed information collection to the Director of the Office of Management and Budget for approval. The U.S. Election Assistance Commission (EAC) is publishing four information collecting forms for its Voting System Testing and Certification Program. The information collected is to be used to improve the quality of voting systems used in federal elections, and to collect necessary key information on voting system manufacturers and their systems. Participation in this program is voluntary. The program is mandated by the Help America Vote Act of 2002 (“HAVA”).

DATES: Comments should be submitted by 5 p.m. on Tuesday, July 15, 2025.

ADDRESSES: Comments on the proposed Testing and Certification forms should be submitted electronically via https://www.regulations.gov (docket IDs: EAC-2025-0001, EAC-2025-0002, EAC-2025-0003, EAC-2025-0004). Written comments on the proposed information collection can also be sent to the U.S. Election Assistance Commission, 633 3rd Street NW, Suite 200, Washington, DC 20001, Attn: Testing & Certification.

FOR FURTHER INFORMATION CONTACT: Paul Aumayr, Senior Election Technology Specialist, Testing and Certification Program, Washington, DC, (301) 563-3919. All requests and submissions should be identified by the title of the information collection.

SUPPLEMENTARY INFORMATION:

Titles and OMB Number: Manufacturer Registration, Application for Testing, Voting System Anomaly Reporting and Root Cause Analysis; OMB Number 3265-0024.

Purpose

Under the PRA (44 U.S.C. 3501-3520), Federal Agencies must obtain approval from the Office of Management and Budget (OMB) for each collection of information they conduct or sponsor. “Collection of information” is defined in 44 U.S.C. 3502(3) and 5 CFR 1320.3(c) and includes Agency requests or requirements that members of the public submit reports, keep records, or provide information to a third party. Section 3506(c)(2)(A) of the PRA requires Federal Agencies to provide a 60-day notice in the Federal Register concerning each proposed collection of information, including each proposed extension of an existing collection of information, before submitting the collection to OMB for approval. To comply with this requirement, the EAC is publishing notice of the proposed collection of information set forth in this document.

HAVA requires that the EAC certify voting systems. Section 231(a)(1) of HAVA (52 U.S.C. 20971) specifically requires the EAC to “provide for the testing, certification, decertification and recertification of voting system hardware and software by accredited laboratories.” To meet this obligation, the EAC has created a voluntary testing and certification program to test voting systems to federal voting system standards.

The program is publishing four forms. These are to be used to collect key information concerning voting system manufacturers and their systems, as well as information regarding anomalies in voting systems used in federal elections. These forms collect:

• The voting system manufacturer registration form collects information on the ownership, contact details for certain directors and senior staff, and the quality processes for manufacturers who wish to participate in the EAC's Testing and Certification program.

• The voting system application collects administrative information on new or modified voting systems that are being submitted for testing by a registered voting system manufacturer.

• The voting system anomaly report will collect initial anomaly information as reported by voting system manufacturers and election officials.

• The root cause analysis form collects information on voting system anomalies, test results, and findings.

This information is collected to improve the quality of voting systems used in federal elections.

Public Comments

The EAC is soliciting public comments to permit the EAC to:

• Evaluate whether the proposed information collection is necessary for the proper functions of the EAC's Testing and Certification Program.

• Evaluate the accuracy of the estimate of burden for this collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Annual Reporting Burden

OMB approval is requested for 3 years.

Respondents: Voting System Manufacturers and State and Local Election Officials.

Annual Burden Estimates:

Number of Respondents: 26.

Estimated Annual Burden in Hours: 177 hours.

Estimated Annual Burden cost: $14,871.

Camden Kelliher,
General Counsel, U.S. Election Assistance Commission.

[FR Doc. 2025-08618 Filed 5-14-25; 8:45 am]

BILLING CODE 4810-71-P